DEPARTMENT OF COMMERCE

National Oceanic and Atmospheric Administration

RIN 0648-XR75

Essential Fish Habitat (EFH) Components of Fishery Management Plans (Northeast Multispecies, Atlantic Sea Scallop, Monkfish, Atlantic Herring, Skates, Atlantic Salmon, and Atlantic Deep-Sea Red Crab) 5-Year Review

AGENCY: National Marine Fisheries Service (NMFS), National Oceanic and Atmospheric Administration (NOAA), Commerce.

ACTION: Supplemental notice of intent (NOI) to prepare a programmatic environmental impact statement (EIS).

SUMMARY: The New England Fishery Management Council (Council) is in the process of preparing a programmatic EIS for an Omnibus EFH Amendment to the fishery management plans (FMPs) for Northeast (NE) multispecies, Atlantic sea scallop, monkfish, Atlantic herring, NE skate complex, Atlantic salmon, and Atlantic deep-sea red crab. The Council will expand the scope of this action to include review of, and possible changes to, the NE multispecies closed areas. During this comment period, the Council is seeking comments on the possible revision of these management areas.

DATES: Written comments must be received on or before 5 p.m. e.s.t., July 18, 2011.

ADDRESSES: You may submit comments by any of the following methods:

• E-mail: HabitatNOI@noaa.gov.

• Mail: Paul J. Howard, Executive Director, New England Fishery Management Council, 50 Water Street, Mill 2, Newburyport, MA 01950.

• Fax: (978) 465-3116.

FOR FURTHER INFORMATION CONTACT: Paul J. Howard, Executive Director, New England Fishery Management Council (978) 465-0492.

SUPPLEMENTARY INFORMATION: The purpose of this notification is to alert the interested public of the Council's intent to consider changes to the NE multispecies closed areas in the Omnibus EFH Amendment. A description of the background and need for the Omnibus EFH Amendment can be found in the original NOI dated February 24, 2004, (69 FR 8367) and is not repeated here. The amendment has been developed in two phases. Phase 1 included a review and update of EFH designations, consideration of habitat areas of particular concern, an updated prey species list, and an update of non-fishing impacts. A notice of availability for the Phase 1 Draft EIS (DEIS) was published on April 6, 2007 (72 FR 17157).

Phase 2 will include an evaluation of the effects of fishing on EFH, and management measures to minimize the adverse effects of fishing on EFH across all FMPs. A subset of the alternatives to minimize the impacts of EFH will focus specifically on minimizing the impacts of fishing on deep-sea corals. During early meetings to develop Phase 2 alternatives in late 2009 and early 2010, the Council's Habitat Oversight Committee concluded that development and implementation of new or modified habitat management areas was complicated substantially by the existence of the NE multispecies closed areas. There is considerable spatial overlap between the NE multispecies closed areas and the current habitat areas which are closed to bottom tending mobile gears. Generally, the NE multispecies closed areas are closed to all gear capable of catching groundfish, including but not limited to mobile gears, although there are specific exemptions for certain fisheries and gear types. Specifically, the Habitat Oversight Committee was concerned about the feasibility of implementing new habitat management areas outside of the boundaries of the NE multispecies closed areas, in particular the year round closures, even if current habitat management areas were eliminated, as this would substantially increase in the amount of seabed closed to fishing for some types of gears/fisheries.

At the January 2011 Council meeting, the Habitat Oversight Committee raised the issue of modifying or eliminating the NE multispecies closed areas via the Omnibus EFH Amendment. At its April 2011 meeting, the Council reviewed available information related to this issue, including how this change in scope would affect the Omnibus EFH Amendment's timeline given other priorities established for 2011, and then voted to expand the scope of the Amendment to consider modifying the NE multispecies closed areas in conjunction with the establishment of any new habitat closed areas.

Following public comment on all alternatives, including any alternatives related to the NE multispecies closed areas as well alternatives to designate EFH and HAPCs, minimize impacts to EFH, and protect deep-sea corals, the Council will select final alternatives and then prepare and submit a final EIS document. It is anticipated that all selected alternatives from both phases of the Omnibus EFH Amendment will be implemented via a single rulemaking. Considering this expansion of scope, the expected implementation date for the Omnibus EFH Amendment will be delayed beyond the previously anticipated date of summer 2012.

Stakeholders are encouraged to submit comments on this change in scope as well as on other issues related to the development of EFH impacts minimization alternatives. Comments are specifically sought on the utility of existing or alternative closures to address the needs of groundfish stocks, as well as on the impacts of changes to the existing closures on groundfish fishing and other activities (such as Special Access Programs, exempted/certified bycatch fisheries, recreational fishing opportunities, endangered or threatened species protection, etc.).

Authority: 16 U.S.C. 1801 et seq.

Dated: June 13, 2011.
Margo Schulze-Haugen,
Acting Director, Office of Sustainable Fisheries, National Marine Fisheries Service.

[FR Doc. 2011-15152 Filed 6-16-11; 8:45 am]

BILLING CODE 3510-22-P